DEPARTMENT OF HEALTH AND HUMAN SERVICES

Food and Drug Administration

[FDA 225-05-8004]

Implementation Plan on the Sharing of Confidential Information Between the European Commission's Health and Consumer Protection Directorate General and the United States Food and Drug Administration of the Department of Health and Human Services

AGENCY: Food and Drug Administration, HHS.

ACTION: Notice.

SUMMARY: The Food and Drug Administration (FDA) is providing notice of an Implementation Plan on the sharing of confidential information between the European Commission's Health and Consumer Protection Directorate General and the United States Food and Drug Administration of the Department of Health and Human Services. The purpose is for both participants to cooperate to facilitate the sharing of documents and/or information related to food safety.

DATES: The agreement became effective on September 23, 2005.

FOR FURTHER INFORMATION CONTACT: Matthew E. Eckel, Office of International Programs (HFG-1), Food and Drug Administration, 5600 Fishers Lane, Rockville MD, 20857, 301-827-4480; FAX 301-480-0716.

SUPPLEMENTARY INFORMATION: In accordance with 21 CFR 20.108(c), which states that all written agreements and Implementation Plans between FDA and others shall be published in the Federal Register, the agency is publishing notice of this Implementation Plan.

Dated: November 10, 2005.
Jeffrey Shuren,
Assistant Commissioner for Policy.

BILLING CODE 4160-01-S

[FR Doc. 05-22829 Filed 11-17-05; 8:45 am]

BILLING CODE 4160-01-C

FNP>